INTERNATIONAL TRADE COMMISSION

[Inv. No. 337-TA-787]

In the Matter of Certain Motion-Sensitive Sound Effects Devices and Image Display Devices and Components and Products Containing Same II; Notice of Institution of Investigation; Institution of Investigation Pursuant to 19 U.S.C. 1337

AGENCY: U.S. International Trade Commission.

ACTION: Notice.

SUMMARY: Notice is hereby given that a complaint was filed with the U.S. International Trade Commission on June 13, 2011, under section 337 of the Tariff Act of 1930, as amended, 19 U.S.C. 1337, on behalf of Ogma, LLC of Longview, Texas. Supplements to the complaint were filed on June 17 and 29, 2011. The complaint alleges violations of section 337 based upon the importation into the United States, the sale for importation, and the sale within the United States after importation of certain motion-sensitive sound effects devices and image display devices and components and products containing same by reason of infringement of certain claims of U.S. Patent No. 6,150,947 (“the '947 patent”) and U.S. Patent No. 5,825,427 (“the '427 patent”). The complaint further alleges that an industry in the United States exists as required by subsection (a)(2) of section 337.

The complainant requests that the Commission institute an investigation and, after the investigation, issue an exclusion order and cease and desist orders.

ADDRESSES: The complaint and supplements, except for any confidential information contained therein, are available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on July 11, 2011, Ordered That—

(1) Pursuant to subsection (b) of section 337 of the Tariff Act of 1930, as amended, an investigation be instituted to determine whether there is a violation of subsection (a)(1)(B) of section 337 in the importation into the United States, the sale for importation, or the sale within the United States after importation of certain motion-sensitive sound effects devices and image display devices and components and products containing same that infringe one or more of claims 1, 9, and 19 of the '947 patent or claims 1 and 2 of the '427 patent, and whether an industry in the United States exists as required by subsection (a)(2) of section 337;

(2) For the purpose of the investigation so instituted, the following are hereby named as parties upon which this notice of investigation shall be served:

(a) The complainant is: Ogma, LLC, 3301 W. Marshall Avenue, Longview, TX 75604.

(b) The respondents are the following entities alleged to be in violation of section 337, and are the parties upon which the complaint is to be served:

3M Company, 3M Center, St. Paul, MN 55144.

Bensussen Deutsch & Associates, Inc., d/b/a Power A, 15525 Woodinville-Redmond Road, NE., Woodinville, WA 98072.

Casio America, Inc., 570 Mount Pleasant Avenue, Dover, NJ 07801.

Casio Computer Co., Ltd., 6-2, Hon-machi 1-chome, Shibuya-ku, Tokyo 151-8543, Japan.

Christie Digital Systems USA, Inc., 10550 Camden Drive, Cypress, CA 90630.

Eiki International, Inc., 30251 Esperanza, Rancho Santa Margarita, CA 92688.

Intec, Inc., 7600 Corporate Center Dr., Suite 400, Miami, FL 33126.

Mitsubishi Electric Corporation, Tokyo Building, 2-7-3, Marunouchi, Chiyoda-ku, Tokyo 100-8310, Japan.

Mitsubishi Electric & Electronics USA, Inc., 5665 Plaza Drive, Cypress, CA 90630.

Optoma Corporation, 5F., No. 108, Minchiuan Road, Shindian City, Taipei, Taiwan.

Optoma Technology, Inc., 715 Sycamore Drive, Milpitas, CA 95035.

Performance Designed Products LLC, 14144 Ventura Boulevard, Suite 200, Sherman Oaks, CA 91423.

Planar Systems, Inc., 1195 NW. Compton Drive, Beaverton, OR 97006.

Supersonic, Inc., 6555 Bandini Boulevard, Commerce, CA 90040.

Toshiba Corporation, 1-1, Shibaura 1-chome, Minato-ku, Tokyo 105-8001, Japan.

Toshiba America Information Systems, Inc., 9740 Irvine Boulevard, Irvine, CA 92618-1697.

(c) The Office of Unfair Import Investigations, U.S. International Trade Commission, 500 E Street, SW., Suite 401, Washington, DC 20436; and

(3) For the investigation so instituted, the Honorable E. James Gildea is designated as the presiding administrative law judge.

The Commission has determined to assign this investigation to Judge Gildea, who is the presiding administrative law judge in Certain Motion-Sensitive Sound Effects Devices and Image Display Devices and Components and Products Containing Same, Inv. No. 337-TA-773, in view of the overlapping subject matter in the two investigations. The presiding administrative law judge is authorized to consolidate Inv. No. 337-TA-773 and this investigation if he deems it appropriate.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: July 13, 2011.
James R. Holbein,
Secretary to the Commission.

[FR Doc. 2011-17966 Filed 7-15-11; 8:45 am]

BILLING CODE 7020-02-P